DEPARTMENT OF STATE

[Public Notice 10052]

Cultural Property Advisory Committee; Notice of Meeting

AGENCY: Department of State.

ACTION: Notice of a meeting.

SUMMARY: The Department of State is issuing this notice to announce the location, date, time and agenda for the next meeting of the Cultural Property Advisory Committee.

DATES AND TIME: Wednesday, July 19 and Thursday, July 20, 2017, 11:00 a.m. to 5:00 p.m. (EDT). An open session of the Cultural Property Advisory Committee will be held on July 19, 2017, 1:00 p.m. to 2:00 p.m. (EDT). It will last approximately one hour. Participants will participate electronically. Those who wish to participate in the open session should register at http://culturalheritage.state.gov, which will provide information on how to access the meeting no later than July 10, 2017.

Written Comments: must be received no later than July 10, 2017, at 11:59 p.m. (EDT).

ADDRESSES: The meeting will be held at the U.S. Department of State, Annex 5, 2200 C St. NW., Washington, DC. Participants will join the meeting electronically, with instructions provided at http://culturalheritage.state.gov no later than July 10, 2017.

Comments: Methods of written comment submission are as follows:

• Electronic Comments: Use http://www.regulations.gov, enter the docket DOS-2017-0028, and follow the prompts to submit comments.

• Paper Comments: Only send paper comments that contain privileged or confidential information (within the meaning of 19 U.S.C. 2605(i)(1)) to: U.S. Department of State, Bureau of Educational and Cultural Affairs—Cultural Heritage Center, SA-5 Floor 5, 2200 C St. NW., Washington, DC 20522-0505.

FOR FURTHER INFORMATION CONTACT: To pre-register for the meeting or for general questions concerning the meeting, contact the Bureau of Educational and Cultural Affairs—Cultural Heritage Center by phone, (202) 632-6301, or mail: CulProp@state.gov.

SUPPLEMENTARY INFORMATION: Pursuant to section 306(e)(2) of the Convention on Cultural Property Implementation Act (5 U.S.C. 2601 et seq.) (“the Act”), the Acting Assistant Secretary of State for Educational and Cultural Affairs calls a meeting of the Cultural Property Advisory Committee (“the Committee”). The Committee's responsibilities are carried out in accordance with provisions of the Act. A portion of this meeting will be closed to the public pursuant to 5 U.S.C. 552b(c)(9)(B) and 19 U.S.C. 2605.

Meeting Agenda: The Committee will review the request by the Government of Libya seeking import restrictions on archaeological and ethnological material.

Open Session Participation: An open session of the meeting to receive oral public comments on the Libya request will be held Wednesday, July 19, 2017, from 1:00 p.m. to 2:00 p.m. (EDT). The text of the Act and a public summary of the Government of Libya's request may be found at http://culturalheritage.state.gov.

If you wish to make an oral presentation at the meeting, you must request to be scheduled by the above-mentioned date and time, and you must submit a written summary of your oral presentation, ensuring that it is received no later than July 10, 2017, at 11:59 p.m. (EDT), via the Regulations.gov Web site listed in the “Comments” section above. Oral comments will be limited to five (5) minutes to allow time for questions from members of the Committee. All oral comments must relate specifically to matters referred to in 19 U.S.C. 2602(a)(1), with respect to which the Committee makes its findings and recommendations. Oral presentation to the Committee may be requested but, due to time constraints, is not guaranteed.

Written Comments: If you do not wish to make oral comments but still wish to make your views known, you may submit written comments for the Committee to consider. Written comments from outside interested parties regarding the Libya request must be received no later than July 10, 2017, at 11:59 p.m. (EDT). Your written comments should relate specifically to the matters referred to in 19 U.S.C. 2602(a)(1).

Mark Taplin,
Acting Assistant Secretary, Bureau of Educational and Cultural Affairs, U.S. Department of State.

[FR Doc. 2017-13933 Filed 6-30-17; 8:45 am]

BILLING CODE 4710-05-P